DEPARTMENT OF AGRICULTURE

Agricultural Marketing Service

7 CFR Part 982

[Docket No. FV05-982-2]

Hazelnuts Grown in Oregon and Washington; Continuance Referendum

AGENCY: Agricultural Marketing Service, USDA.

ACTION: Referendum order.

SUMMARY: This document directs that a referendum be conducted among eligible growers of hazelnuts in Oregon and Washington, to determine whether they favor continuance of the marketing order regulating the handling of hazelnuts grown in the production area.

DATES: The referendum will be conducted from February 7 through February 25, 2005. To vote in this referendum, growers must have been producing hazelnuts within the designated production area in Oregon and Washington, during the period July 1, 2003, through June 30, 2004.

ADDRESSES: Copies of the marketing order may be obtained from the office of the referendum agents at 1220 SW. Third Avenue, suite 385, Portland, Oregon 97204-2807, or the Office of the Docket Clerk, Marketing Order Administration Branch, Fruit and Vegetable Programs, Agricultural Marketing Service, U.S. Department of Agriculture, 1400 Independence Avenue, SW., Stop 0237, Washington, DC 20250-0237.

FOR FURTHER INFORMATION CONTACT: Barry Broadbent, Marketing Specialist, Northwest Marketing Field Office, Marketing Order Administration Branch, Fruit and Vegetable Programs, AMS, USDA, 1220 SW. Third Avenue, suite 385; telephone (503) 326-2724; fax (503) 326-7440; or Kathy Finn, Acting Rulemaking Team Leader, Marketing Order Administration Branch, Fruit and Vegetable Programs, Agricultural Marketing Service, U.S. Department of Agriculture, 1400 Independence Avenue, SW., Stop 0237, Washington, DC 20250-0237; telephone (202) 720-2491; fax (202) 720-8938.

SUPPLEMENTARY INFORMATION: Pursuant to Marketing Order No. 982 (7 CFR part 982), hereinafter referred to as the “order,” and the applicable provisions of the Agricultural Marketing Agreement Act of 1937, as amended (7 U.S.C. 601-674), hereinafter referred to as the “Act,” it is hereby directed that a referendum be conducted to ascertain whether continuance of the order is favored by the growers. The referendum shall be conducted during the period February 7 through February 25, 2005, among hazelnut growers in the production area. Only growers that were engaged in the production of hazelnuts in Oregon and Washington during the period of July 1, 2003, through June 30, 2004, may participate in the continuance referendum.

USDA has determined that continuance referenda are an effective means for determining whether growers favor continuation of marketing order programs. The Department would consider termination of the order if less than two-thirds of the growers voting in the referendum and growers of less than two-thirds of the volume of hazelnuts represented in the referendum favor continuance. In evaluating the merits of continuance versus termination, the USDA will not only consider the results of the continuance referendum. The USDA will also consider all other relevant information concerning the operation of the order and the relative benefits and disadvantages to growers, handlers, and consumers in order to determine whether continued operation of the order would tend to effectuate the declared policy of the Act.

In accordance with the Paperwork Reduction Act of 1995 (44 U.S.C. Chapter 35), the ballot materials to be used in the referendum herein ordered have been submitted to and approved by the Office of Management and Budget (OMB) and have been assigned OMB No. 0581-0178. It has been estimated that it will take an average of 20 minutes for each of the approximately 750 growers of hazelnuts grown in Oregon and Washington, to cast a ballot. Participation is voluntary. Ballots postmarked after February 25, 2005, will not be included in the vote tabulation.

Gary D. Olson and Barry Broadbent of the Northwest Marketing Field Office, Fruit and Vegetable Programs, Agricultural Marketing Service, USDA, are hereby designated as the referendum agents of the Department to conduct such referendum. The procedure applicable to the referendum shall be the “Procedure for the Conduct of Referenda in Connection With Marketing Orders for Fruits, Vegetables, and Nuts Pursuant to the Agricultural Marketing Agreement Act of 1937, as Amended” (7 CFR 900.400 et seq).

Ballots will be mailed to all growers of record and may also be obtained from the referendum agents, or from their appointees.

List of Subjects in 7 CFR Part 982

Hazelnuts, Marketing agreements, Reporting and recordkeeping requirements.

Authority: 7 U.S.C. 601-674.

Dated: January 5, 2005.
Kenneth C. Clayton,
Associate Administrator, Agricultural Marketing Service.

[FR Doc. 05-471 Filed 1-10-05; 8:45 am]

BILLING CODE 3410-02-P